ENVIRONMENTAL PROTECTION AGENCY

[RCRA-2002-0024, FRL-7468-9]

Agency Information Collection Activities: Proposed Collection; Comment Request; 2003 Hazardous Waste Report

AGENCY: Environmental Protection Agency (EPA).

ACTION: Notice.

SUMMARY: The U.S. Environmental Protection Agency (EPA or Agency) is revising the previous notice published on August 13, 2002 (Volume 67, Number 156, page 52720) for the EPA plan to submit an Information Collection Request (ICR) to the Office of Management and Budget (OMB) for the 2003 Hazardous Waste Report (EPA Form 8700-13 A/B; EPA ICR Number 0976.11; OMB Control No. 2050-0024). An agency may not conduct or sponsor a collection of information and a person is not required to respond to a collection of information unless it displays a valid OMB control number indicating OMB approval. Before submitting this ICR to OMB for review and approval, we are again asking for comments on this information collection. This notice discusses changes based on comments to the August 13, 2002 notice.

This ICR renews an ongoing information collection from hazardous waste generators and treatment, storage, or disposal facilities. This collection is done on a two-year cycle as required by Sections 3002 and 3004 of the Resource Conservation and Recovery Act (RCRA). The information is collected via a mechanism known as the Hazardous Waste Report (also known as the Biennial Report) for the required reporting year.

DATES: Comments must be submitted on or before May 19, 2003.

ADDRESSES: Follow the detailed instructions in the SUPPLEMENTARY INFORMATION.

FOR FURTHER INFORMATION CONTACT: Dave Levy, Office of Solid Waste, Mail Code 5302W, Environmental Protection Agency, 1200 Pennsylvania Ave., NW., Washington, DC 20460; telephone number: 703-308-8479; e-mail address: levy.dave@epa.gov

SUPPLEMENTARY INFORMATION: EPA has established a public docket for this ICR under Docket ID number RCRA-2002-0024 available for public viewing at the RCRA Docket in the EPA Docket Center (EPA/DC), EPA West, Room B102, 1301 Constitution Ave., NW, Washington, DC. The EPA Docket Center Public Reading Room is open from 8:30 a.m. to 4:30 p.m., Monday through Friday, excluding legal holidays. The telephone number for the Reading Room is (202) 566-1744, and the telephone number for the RCRA Docket is (202) 566-0270. An electronic version of the public docket is available through EPA Dockets (EDOCKET) at http://www.epa.gov/edocket.

Please use EDOCKET to obtain a copy of the draft collection of information, submit or view public comments, access the index listing of the contents of the public docket, or to access those documents in the public docket that are available electronically. Once in the system, select “Search,” and then key in the Docket ID number identified above.

Any comments related to this ICR should be submitted to EPA and OMB within 60 days of this notice, and according to the following detailed instructions: (1) Submit your comments to EPA online using EDOCKET (our preferred method), by e-mail to RCRA-docket@epa.gov, or by mail to: EPA Docket Center, Environmental Protection Agency, Mail Code 5305T, 1200 Pennsylvania Ave., NW., Washington, DC 20460, and (2) Mail your comments to OMB at: Office of Information and Regulatory Affairs, Office of Management and Budget (OMB), Attention: Desk Officer for EPA, 725 17th Street, NW., Washington, DC 20503.

EPA's policy is that public comments, whether submitted electronically or on paper, will be made available for public viewing in EDOCKET as EPA receives them and without change, unless the comment contains copyrighted material, confidential business information (CBI), or other information otherwise restricted by statute from public disclosure. When EPA identifies a comment containing copyrighted material, EPA will provide a reference to that material in the version of the comment that is placed in EDOCKET. The entire printed comment, including the copyrighted material, will be available in the public docket. Although identified as an item in the official docket, information that is claimed as CBI or that is otherwise restricted from disclosure by statute, is not included in the official public docket and will not be available for public viewing in EDOCKET. For further information about the electronic docket, see EPA's Federal Register notice describing the electronic docket at 67 FR 38102 (May 31, 2002) or at http://www.epa.gov/edocket.

Affected entities: Entities potentially affected by this action are those which generate, treat, store, recycle, or dispose of hazardous waste.

Title: The 2003 Hazardous Waste Report, EPA ICR Number 0976.11 (OMB Control Number 2050-0024).

Abstract: This ICR renews an ongoing information collection from hazardous waste generators and hazardous waste treatment, storage, or disposal facilities. This collection is done on a two-year cycle as required by Sections 3002 and 3004 of the Resource Conservation and Recovery Act (RCRA). The information is collected via a mechanism known as the Hazardous Waste (Biennial )Report.

1. What Is the Hazardous Waste (Biennial) Report?

The Hazardous Waste Report (Biennial Report) is the federal data collection for information about the generation and management of hazardous waste in the United States. Sections 3002 and 3004 of the Resource Conservation and Recovery Act (RCRA) require large quantity generators (LQGs), treatment, storage, and disposal facilities (TSDFs), and recyclers of hazardous waste to report this information to the state in which they are located on a two-year cycle. The respondents' submissions (reports) describe each generated hazardous waste, the activity by which they generated the waste, and the waste quantity; the reports also list the management method by which each waste is treated, recycled, or disposed and the quantity managed.

The states forward the reports to EPA electronically; EPA enters the information into a database called RCRAInfo. You can obtain detailed information about the Biennial Report data from these EPA Internet web pages:

• The National Biennial RCRA Hazardous Waste Report for odd numbered years from 1989 to 1999, the associated Biennial Report reported data files, and other information can be found at http://www.epa.gov/epaoswer/hazwaste/data/#br.

• The Biennial Report data for each reporter are also available through EPA's Envirofacts by clicking on “Queries” under the heading “Advanced Capabilities” and then clicking on “BRS” at http://www.epa.gov/enviro.

• Information about RCRAInfo can be found at http://www.epa.gov/enviro/html/rcris.

2. How Are the Hazardous Waste Report Data Used?

EPA compiles and publishes the National Biennial RCRA Hazardous Waste Report based on the data for each reporting year. EPA and states have many uses for Hazardous Waste Report information, including:

• Describing the various source activities that generate hazardous waste and the generated waste types and quantities;

• Describing the management methods by which the waste is treated, disposed, or recycled and the quantities managed by each method;

• Providing information for analysis of trends in waste generation, waste treatment and disposal, recycling, and source reduction;

• Understanding how much waste a state receives from out of state or sends out of state; and

• Estimating available capacity for treating, recycling, and disposing hazardous wastes.

Additionally, EPA utilizes the Biennial Report information for planning and developing regulations; regulation development depends on descriptions and quantities of generated hazardous waste and management methods used for treatment, recycling, and disposal. The information allows the Agency to determine whether regulations are having the desired effect on the generation and management of hazardous waste; for example, the report provides information on whether the treatment of wastes has shifted from one method to another. EPA also uses the information to conduct technical assistance, plan facility inspections, and carry out regulatory enforcement. States use the information for many of the same purposes as EPA; other state uses include planning, setting waste minimization goals, assessing fees, monitoring compliance, and carrying out enforcement.

EPA and states receive requests for the information from many public and private organizations including government agencies, businesses, public interest groups, and interested citizens. Many requests come from businesses that supply chemicals, equipment, and services to hazardous waste generators and TSDFs.

3. What Changes Does EPA Plan for the 2003 Hazardous Waste Report?

As discussed in the August 13, 2002 Federal Register Notice, for the 2003 cycle, EPA plans to use the same Form GM, Form WR, and instructions that were used in the 2001 Hazardous Waste Report booklet with some minor changes and updates. We also plan some improvements to the RCRA Subtitle C Site Identification Form (Site ID Form) that is part of the booklet, and will clarify how to complete the form. We plan to have the 2003 Biennial Report forms and instructions booklet available to the public in midyear 2003.

EPA extensively revised the 2001 Biennial Report . EPA, however, delayed implementation of two minor changes until the 2003 cycle. The extensive 2001 revisions were developed through the Waste Information Needs/Informed (WIN) Initiative. WIN is the multi-year partnership project of the states, EPA regions, and EPA headquarters for reengineering the information that supports implementation of the RCRA hazardous waste program.

Documents about the WIN process and revisions and the 2001 Biennial Report can be found at:

http://www.epa.gov/epaoswer/hazwaste/data/brs01/icr.htm

http://www.epa.gov/epaoswer/hazwaste/data/brs01/forms.htm

Changes to Form GM and Form WR

EPA plans to incorporate the two changes that were discussed in the August 13, 2002 notice: (1) Deletion of the “RCRA radioactive mixed” (mixed waste) box on Form GM (Sec. 1.F) and on Form WR (H). In the 2001 Biennial Report, we included “Mixed Waste (hazardous and radioactive) Generator” on the RCRA Subtitle C Site Identification Form under Hazardous Waste Activities (Item 10.A.1.e). We retained the boxes on the Form GM and Form WR only for 2001 because the data were needed for required Department of Energy (DOE) facility reports that are sent to states. DOE is now using other data sources for those reports.

(2) Addition of a box for “Country of Origin” for waste that is imported into the United States to both the Form GM and Form WR. For 2001 and prior years, the Country of Origin was entered in the “Off-site handler EPA ID number” box on Form WR (Box 1.D); this did not allow identification of the actual off-site handler's EPA Identification Number. This addition will identify the off-site handler, usually the U.S. Importer, on Form WR and will provide the Country of Origin on both forms.

Revisions to the RCRA Subtitle C Site Identification Form

EPA plans to revise the RCRA Subtitle C Site Identification Form (Site ID Form) in the 2003 Hazardous Waste Report. This version of the Site ID Form will soon be implemented in the Notification of Regulated Waste Activities booklet (Notification) [EPA Form 8700-12] and the RCRA Hazardous Waste Part A Permit Application booklet (Part A Permit Application) [EPA Form 8700-23]; OMB recently approved renewals for both of these data collections. The same Site ID Form is included in all three data collections; EPA allows respondents to copy the most recently submitted Site ID Form rather than filling out the entire blank form. The respondents provide additions, deletions, or other changes since the previous report on a blank form and completes the Certification with the appropriate signature in Item 13.

The revisions to the Site ID Form are:

(1) Addition of a facsimile (fax) phone number and electronic mail (e-mail) address information for “Site Contact Person” (Item 8). Many businesses now communicate by fax and e-mail; these data blocks will provide space for submitting the information if the respondent would like to be contacted by fax or e-mail. This fax and e-mail information is not required for completing Item 8.

(2) Addition of address and phone number information for “Owner and Operator” (Item 9). The instructions advise the respondent to check with their state to determine if this information is required for that state's Hazardous Waste Report or Notification submissions.

(3) Addition to the explanation about determining the “RCRA Site's North American Industry Classification System (NAICS) Code(s) for the Site (Item 6). The instructions advise the respondents to check with their company's business or accounting office to determine which NAICS code(s) to report. This is because the NAICS codes are used for tax reports and other business documents. The Bureau of Census made changes to the list of NAICS codes in 2002 that are reflected in a new table on their web pages; these web page references have been added.

(4) Changing the “Regulated Waste Activities” check boxes on the Site ID Form (Item 10) from a single box to “Yes” and “No” boxes. This change will resolve some confusion about unchecked boxes. States have commented that a number of 2001 Biennial Report respondents checked some RCRA Site activities, but failed to check the appropriate ones for other ongoing activities. States want to be sure that an activity has actually ceased if it was previously reported for a RCRA Site.

Completion of the Entire RCRA Subtitle C Site Identification Form

We plan to require respondents to complete all the items for the Site ID form for the 2003 Biennial Report. For the 2001 Biennial Report, EPA did not require the respondent to complete the “Site Land Type” (Item 5) or the “Legal Owner and Operator of the Site” (Item 9). The respondent completed the “Hazardous Waste Activities—Generator of Hazardous” (Item 10.A.1) as applicable for their RCRA Site; the respondent marked “Treater, Storer, or Disposer (at your site)” (Item 10.A.3) only if applicable for their site. States received a lot of questions about these items because respondents were unclear about what was optional.

States have said that some submitters of the 2001 Biennial Report provided the site's land type, listed owner and operator, or checked new activities in Item 9, while failing to check ongoing activities. States commented that they had to spend a lot of time contacting respondents and correcting the information. States want to be sure that an activity has ceased if it was previously listed. This partial reporting of the Site ID information has created confusion and doubts about the quality of some of the data. Having experienced these problems with the 2001 Biennial Report submissions, states asked EPA to require that respondents complete the entire Site ID Form. The submission of the complete Site ID Form for the Biennial Report will provide the current, complete site information for approximately 22,000 LQGs and 1,300 TSDFs.

4. What Is The Estimated Reporting Burden for the 2003 Hazardous Waste Report?

Burden means the total time, effort, or financial resources expended by persons to generate, maintain, retain, or disclose or provide information to or for a federal agency. Based on the changes discussed above, EPA estimates that the additional time for completing the Biennial Report would be less than 20 minutes; the estimated average time for completing the entire report would be about 20 hours. Based on the 2001 Biennial Report submissions, EPA estimates there will be 22,100 respondents to the 2003 Biennial Report. The average reporting burden is estimated at 17.06 hours per respondent, which includes time for reviewing instructions, gathering data, completing and reviewing the forms, and submitting the report. The average record keeping requirement is estimated at 2.49 hours per respondent, which includes the time for filing and storing the Biennial Report submission for three years.

We estimate that the 2003 Hazardous Waste Report will impose an annualized burden of 216,000 hours on the states and the regulated community and will require an annualized expenditure of $11,266,000.

5. Why Is EPA Requesting Comments?

An agency may not conduct or sponsor, and a person is not required to respond to, a collection of information unless it displays a currently valid OMB control number, which indicates OMB approval. The OMB control numbers for EPA's regulations are listed in 40 CFR Part 9 and 48 CFR Chapter 15. Before submitting this ICR to OMB for review and approval, we are again asking for comments on this information collection. The Agency solicits comments which will help it to:

(1) Evaluate whether the proposed collection of information is necessary for the proper performance of the functions of the agency, including whether the information will have practical utility;

(2) enhance the quality, utility, and clarity of the information to be collected;

(3) minimize the burden of the collection of information on those who are to respond, including through the use of appropriate automated electronic, mechanical, or other technological collection techniques or other forms of information technology, e.g., permitting electronic submission of responses; and

(4) evaluate the accuracy of the agency's estimate of the burden of the proposed collection of information, including the validity of the methodology and assumptions used.

Dated: March 12, 2003.
Robert Springer,
Director, Office of Solid Waste.

[FR Doc. 03-6463 Filed 3-17-03; 8:45 am]

BILLING CODE 6560-50-P